DEPARTMENT OF VETERANS AFFAIRS

Privacy Act of 1974; System of Records

AGENCY: Department of Veterans Affairs (VA).

ACTION: Notice of amendment to system of records notice.

SUMMARY: As required by the Privacy Act of 1974, 5 U.S.C. 552a(e) notice is hereby given that the Department of Veterans Affairs (VA) is amending the system of records currently known as “Health Administration Center Civilian Health and Medical Care Records—VA (54VA17)” as set forth in 65 FR 81572-81575, Dec. 26, 2000. VA is amending the system by renumbering the system of records to 54VA16 and revising the paragraphs for Categories of Individuals Covered by the System; Authority for Maintenance of the System; Purpose; Routine Uses or Records Maintained in the System, including Categories of Users and the Purposes of Such Uses; System Manager(s) and Address; and Record Source Categories. VA is republishing the system notice in its entirety at this time.

DATES: Comments on the amendment of this system of records must be received no later than October 14, 2003. If no public comment is received, the amended system will become effective October 14, 2003.

ADDRESSES: You may mail or hand-deliver written comments concerning the amended system of records to the Office of Regulations Management (02D), Department of Veterans Affairs, 810 Vermont Avenue, NW., Washington, DC 20240; or fax comments to (202) 273-9289; or email comments to “OGCRegulations@mail.va.gov”. All relevant material received before October 14, 2003 will be considered. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW., Washington, DC 20420; telephone (727) 320-1839.

SUPPLEMENTARY INFORMATION: VA is renumbering the system of records from 54VA17 to 54VA16 to reflect organizational changes in the Department.

The Categories of Individuals Covered by the System has been amended to include eligible veterans and their dependents in the following programs administered by the Health Administration Center (HAC):

• Public Law 103-446, Title I: Persian Gulf War Veterans, § 107, mandates that the Secretary conduct a program to evaluate the health status of spouses and children of Persian Gulf War veterans.

• Title 38 U.S.C. 1803 requires VA to provide health care benefits to any birth child of a veteran who served in Vietnam during the Vietnam War and that child was born with the medical condition of spina bifida.

• Title 38 U.S.C. 1724 requires VA to manage health care benefits to veterans outside the United States if such care and services are needed for the treatment of a service-connected disability or as part of an approved VA vocational rehabilitation program.

• Title 38 U.S.C. 1813 requires VA to provide health care benefits to a birth child born with certain covered birth defects to a female Vietnam veteran.

• Title 38 U.S.C. Sections 1703, 1725 and 1728 govern VA payment for hospital care and medical services to veterans' authorized Non-VA health care.

The Authority for Maintenance of the System has been amended to provide updated regulatory and public law references. Public Law 107-135, Department of Veterans Affairs Health Care Programs Enhancement Act of 2001, re-designated the Civilian Health and Medical Program of the Department of Veterans Affairs (CHAMPVA) program from 38 U.S.C. 1713 to 38 U.S.C. 1781.

The Purpose of this system of records is amended to include evaluation of health status of dependents of Persian Gulf War veterans, dependents of veterans eligible for Spina Bifida and Children of Women Vietnam Veterans health care, and veterans eligible to receive foreign medical benefits and Non-VA health care under VA auspices.

Routine Uses of Records Maintained in the System, Including Categories of Users and the Purposes of Such Uses is amended as follows:

• The word “CHAMPVA” in routine use number 1 is deleted. The routine use applies to all programs (categories of individuals covered by the system and categories of records in the system) administered by the Health Administration Center. CHAMPVA is only one of the programs in this system of records. The other programs are Foreign Medical Program, Spina Bifida Healthcare, Children of Women Vietnam Veterans Healthcare, Fee claims and Persian Gulf examination claims. Because the routine use disclosure authority will be applicable to all programs, unless otherwise designated, reference to the particular program has been deleted.

• In routine use number 1, a description of the means of disclosure has been added to reflect that the eligibility and claim information may be disclosed via call service center, general correspondence and interactive web-page. An additional phrase has also been inserted for the disclosure of information in response to inquiries that are made by a claimant's next of kin or person with whom the claimant has a meaningful relationship. This addition is being made to make the routine use authority compatible with the Health Insurance Portability and Accountability Act (HIPAA) provisions.

• Routine use number 3 has been amended in its entirety. On its own initiative, VA may disclose information, except for the names and home addresses of veterans and their dependents, to a Federal, state, local, tribal or foreign agency charged with the responsibility of investigating or prosecuting civil, criminal or regulatory violations of law, or charged with enforcing or implementing the statute, regulation, rule or order issued pursuant thereto. On its own initiative, VA may also disclose the names and addresses of veterans and their dependents to a Federal agency charged with the responsibility of investigating or prosecuting civil, criminal or regulatory violations of law, or charged with enforcing or implementing the statute, regulation, rule or order issued pursuant thereto. VA must be able to comply with the requirements of agencies charged with enforcing the law and conducting investigations. VA must also be able to provide information to state or local agencies charged with protecting the public's health as set forth in state law.

• Routine use number 4 has been amended to add the wording “upon its request for use” for VA to disclose records from this system of records to a Federal agency in the issuance of a security clearance, the investigation of an employee, the letting of a contract, or the issuance of a license, grant or other benefit by the requesting Agency, to the extent that the information is relevant and necessary to the requesting Agency's decision on the matter.

• Former routine uses numbers 5 and 6 have been deleted from this system of record. Upon review, it has been determined that these routine uses are no longer applicable to this system and, as such, are no longer required.

• Routine uses numbers 7 through 24 have been renumbered from 5 through 22.

• In routine use number 8 (formerly routine use number 10), the wording “in order for the foregoing activities to prosecute or defend litigation involving or pertaining to the United States'' has been replaced with “in order to prosecute or defend litigation involving or pertaining to the United States, or in which the United States has an interest” to make the routine use more concise with its application.

• In routine use number 9 (formerly routine use number 11), the wording “Any information in this system of records may be disclosed to a Federal grand jury, a Federal court or a party in litigation, or a Federal agency or party to an administrative proceeding being conducted by a Federal agency” has been replaced with “Any information in this system of records may be disclosed to a Federal agency or party to an administrative proceeding being conducted by a Federal agency.” The wording “in order for VA to respond to and comply with the issuance of a Federal court order” has been replaced with “in order for VA to respond to and comply with the issuance of an order by that Federal agency requiring production of the information.” The changes have been made to make the routine use more concise in the application of its function.

• The word “CHAMPVA” in routine use number 22 (formerly routine use number 24) is deleted and replaced with the wording “veteran and beneficiary.” The intention of this word change is to provide access information to veterans and beneficiaries who request assistance in locating medical providers who accept VA payment for health care services.

• Routine use number 23 is added to permit disclosure of relevant information from this system to other entities with which VA has a contract or agreement to perform such services, as VA may deem practicable for the purposes of laws administered by VA, in order for the contractor or subcontractor to perform the services of the contract or agreement.

• Routine use number 24 is added to permit disclosure of relevant information from this system to Claims Processing Quality Review Organizations or Accreditation Organizations in connection with their review of claims, or in connection with studies or other review activities conducted pursuant to VA requests to the organization for certification or accreditation to national standards.

The Privacy Act permits VA to disclose information about individuals without their consent for a routine use when the information will be used for a purpose that is compatible with the purpose for which VA collected the information. In all of the routine use disclosures described above, the recipient of the information will use the information in connection with a matter relating to one of VA's programs, will use the information to provide a benefit to VA, or disclosure is required by law.

Under section 264, Subtitle F of Title II of the Health Insurance Portability and Accountability Act of 1996 (HIPAA) Public Law 104-191, 100 Stat. 1936, 2033-34 (1996), the United States Department of Health and Human Services (HHS) published a final rule, as amended, establishing Standards for Privacy of Individually-Identifiable Health Information, 45 CFR Parts 160 and 164. The Veterans Health Administration (VHA) may not disclose individually-identifiable health information (as defined in HIPAA and the Privacy Rule, 42 U.S.C. 1320(d)(6) and 45 CFR 164.501) pursuant to a routine use unless either: (a) The disclosure is required by law, or (b) the disclosure is also permitted or required by the HHS Privacy Rule. The disclosures of individually-identifiable health information contemplated in the routine uses published in this amended system of records notice are permitted under the Privacy Rule or required by law. However, to also have authority to make such disclosures under the Privacy Act, VA must publish these routine uses. Consequently, VA is publishing these routine uses and is adding a preliminary paragraph to the routine uses portion of the system of records notice stating that any disclosure pursuant to the routine uses in this system of records notice must be either required by law or permitted by the Privacy Rule before VHA may disclose the covered information.

The System Manager(s) and Address is amended to account for recent organizational changes. The Record Source Categories is updated to include VA Medical Centers.

The Report of Intent to Publish an Amended System of Records Notice and an advance copy of the system notice have been sent to the appropriate Congressional committees and to the Director of the Office of Management and Budget (OMB) as required by 5 U.S.C. 552a(r) (Privacy Act) and guidelines issued by OMB (65 FR 77677), December 12, 2000.

Approved: August 28, 2003.
Anthony J. Principi,
Secretary of Veterans Affairs.

54VA16

SYSTEM NAME:

Health Administration Center Civilian Health and Medical Program Records-VA.

SYSTEM LOCATION:

Records are maintained at the Health Administration Center (HAC), 300 South Jackson Street, Denver, Colorado 80209.

CATEGORIES OF INDIVIDUALS COVERED BY THE SYSTEM:

Categories of individuals covered by the system include the following:

1. Dependents of veterans who seek health care under 38, U.S.C. 1781, 1802 and 1803, 1813 and Pub. L. 103-446, section 107.

2. Veterans seeking health care services in a foreign country, excluding services provided in Canada and the Philippines, under 38 U.S.C. 1724.

3. Veterans receiving community fee for service benefits at VA expense under Title 38, U.S.C 1703, 1725 and 1728.

4. Health care providers treating individuals who receive care under 38 U.S.C. 1724, 1781, 1803, 1813, and Pub.L. 103-446 section 107.

CATEGORIES OF RECORDS IN THE SYSTEM:

Records maintained in the system include medical benefit application and eligibility information concerning the veteran and, when applicable, their spouse and/or dependent(s), other health insurance information, correspondence concerning individuals and documents pertaining to claims for medical services, information related to claims processing and third party liability recovery actions taken by VA and/or TRICARE. The record may include the name, address and other identifying information concerning health care providers, services provided, amounts claimed and paid for health care services, medical records, and treatment and payment dates. Additional information may include veteran, spouse and/or dependent identifying information (e.g., name, address, social security number, VA claims file number, date of birth), and military service information concerning the veteran sponsor (e.g., dates, branch and character of service, medical information).

AUTHORITY FOR MAINTENANCE OF THE SYSTEM:

Title 38, United States Code, sections 501(a) and 501(b), 1703, 1724, 1725, 1728 1781, 1802 and 1803, 1813, and Pub. L. 103-446 section 107.

PURPOSE(S):

Records may be used for purposes of establishing and monitoring eligibility to receive VA benefits and processing medical claims for payment for eligible beneficiaries and veterans.

ROUTINE USES OF RECORDS MAINTAINED IN THE SYSTEM, INCLUDING CATEGORIES OF USERS AND THE PURPOSES OF SUCH USES:

VA may disclose protected health information pursuant to the following routine uses where required by law, or required or permitted by 45 CFR parts 160 and 164.

1. Eligibility and claim information from this system of records may be disclosed verbally and in writing. For example, disclosure may be made via correspondence, call service center or by interactive web page, in response to an inquiry made by the claimant, claimant's guardian, claimant's next of kin or person with whom the claimant has a meaningful relationship, health care provider, trading partner or contractor. Purposes of these disclosures are to assist the provider or claimant in obtaining reimbursement for claimed medical services, to facilitate billing processes, to verify beneficiary eligibility for requested services, and to provide payment information regarding claimed services. Eligibility or entitlement information disclosed may include the name, authorization number (social security number), effective dates of eligibility, reasons for any period of ineligibility, and other health insurance information of the named individual. Claim information disclosed may include payment information such as payment identification number, date of payment, date of service, amount billed, amount paid, name of payee, or reasons for non-payment.

2. Statistical and other data may be disclosed to Federal, state, and local government agencies and national health organizations to assist in the development of programs that will be beneficial to health care recipients, to protect their rights under the law, and to ensure that they are receiving all health benefits to which they are entitled.

3. VA may disclose on its own initiative any information in this system, except the names and home addresses of veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

4. A record from this system of records may be disclosed to a Federal agency upon its request for use in the issuance of a security clearance, the investigation of an employee, the letting of a contract, or the issuance of a license, grant or other benefit by the requesting agency, to the extent that the information is relevant and necessary to the requesting Agency's decision on the matter.

5. Disclosure may be made to a congressional office from the record of an individual in response to an inquiry from the congressional office made at the request of that individual.

6. Disclosure may be made to National Archives and Records Administration (NARA), and the General Services Administration (GSA) in records management inspections conducted under authority of title 44 United States Code.

7. Any relevant information in this system of records may be disclosed to attorneys, insurance companies, employers, and to courts, boards, or commissions; such disclosures may be made only to the extent necessary to aid VA in preparation, presentation, and prosecution of claims authorized under Federal, state, or local laws, and regulations promulgated hereunder.

8. Any information in this system of records may be disclosed to the United States Department of Justice or United States Attorneys in order to prosecute or defend litigation involving or pertaining to the United States, or in which the United States has an interest.

9. Any information in this system of records may be disclosed to a Federal agency or party to an administrative proceeding being conducted by a Federal agency, in order for VA to respond to and comply with the issuance of an order by that Federal agency requiring production of the information.

10. Any information in this system of records may be disclosed to a state or municipal grand jury, a state or municipal court or a party in litigation, or to a state or municipal administrative agency functioning in a quasi-judicial capacity or a party to a proceeding being conducted by such agency, provided that any disclosure of claimant information made under this routine use must comply with the provisions of 38 CFR 1.511.

11. Any information concerning the claimant's indebtedness to the United States by virtue of a person's participation in a benefits program administered by VA, including personal information obtained from other Federal agencies through computer matching programs, may be disclosed to any third party, except consumer reporting agencies, in connection with any proceeding for the collection of any amount owed to the United States. Purposes of these disclosures may be to assist VA in collection of costs of services provided individuals not entitled to such services and to initiate legal actions for prosecuting individuals who willfully or fraudulently obtain Title 38 benefits without entitlement. This disclosure is consistent with 38 U.S.C. 5701(b)(6).

12. Any relevant information from this system of records may be disclosed to TRICARE, the Department of Defense (DoD) and the Defense Eligibility Enrollment Reporting System (DEERS) to the extent necessary to determine eligibility for the Civilian Health and Medical Program of the Department of Veterans Affairs (CHAMPVA) or TRICARE benefits, to develop and process CHAMPVA or TRICARE claims, and to develop cost-recovery actions for claims involving individuals not eligible for the services or claims involving potential third-party liability.

13. The name and address of a veteran or dependent, and other information as is reasonably necessary to identify such individual, may be disclosed to a consumer reporting agency for the purpose of locating the individual or obtaining a consumer report to determine the ability of the individual to repay an indebtedness to the United States by virtue of the individual's participation in a benefits program administered by VA, provided that the requirements of 38 U.S.C. 5701(g)(2) have been met.

14. The name and address of a veteran or dependent, and other information as is reasonably necessary to identify such individual, including personal information obtained from other Federal agencies through computer matching programs, and any information concerning the individual's indebtedness to the United States by virtue of the individual's participation in a benefits program administered by VA, may be disclosed to a consumer reporting agency for purposes of assisting in the collection of such indebtedness, provided that the requirements of 38 U.S.C. 5701(g)(4) have been met.

15. In response to an inquiry about a named individual from a member of the general public, disclosure of information may be made from this system of records to report the amount of VA monetary benefits being received by the individual. This disclosure is consistent with 38 U.S.C. 5701(c)(1).

16. The name and address of a veteran or dependent may be disclosed to another Federal agency or to a contractor of that agency, at the written request of the head of that agency or designee of the head of that agency, for the purpose of conducting government research necessary to accomplish a statutory purpose of that agency.

17. Any information in this system of records relevant to a claim of a veteran or dependent, such as the name, address, the basis and nature of a claim, amount of benefit payment information, medical information and military service and active duty separation information may be disclosed at the request of the claimant to accredited service organizations, VA approved claim agents and attorneys acting under a declaration of representation, so that these individuals can aid claimants in the preparation, presentation and prosecution of claims under the laws in the development and presentation of claims for benefits administered by VA. The name and address of a claimant will not, however, be disclosed to these individuals under this routine use if the claimant has not requested the assistance of the accredited service organization, claims agent or an attorney.

18. Any information in this system, including medical information, the basis and nature of claim, the amount of benefits and personal information may be disclosed to a VA Federal fiduciary or a guardian ad litem in relation to his or her representation of a claimant only to the extent necessary to fulfill the duties of the VA Federal fiduciary or the guardian ad litem.

19. The individual's name, address, social security number and the amount (excluding interest) of any indebtedness which is waived under 38 U.S.C. 3102, compromised under 4 CFR Part 103, otherwise forgiven, or for which the applicable statute of limitations for enforcing collection has expired, may be disclosed to the Treasury Department, Internal Revenue Service, as a report of income under 26 U.S.C. 61(a)(12).

20. The name of a veteran or dependent, other information as is reasonably necessary to identify such individual, and any other information concerning the individual's indebtedness by virtue of a person's participation in a benefits program administered by VA, may be disclosed to the Treasury Department, Internal Revenue Service, for the collection of Title 38, U.S.C. benefit overpayments, overdue indebtedness, and/or costs of services provided to an individual not entitled to such services, by the withholding of all or a portion of the person's Federal income tax refund.

21. The name, date of birth and social security number of a veteran, spouse or dependent, and other identifying information as is reasonably necessary may be disclosed to Social Security Administration and Centers for Medicare & Medicaid Services, Department of Health and Human Services, for the purpose of validating social security numbers and Medicare information.

22. The name and address of any health care provider in this system of records who has received payment for claimed services in behalf of a veteran and beneficiary may be disclosed in response to an inquiry from a member of the general public.

23. Relevant information from this system of records may be disclosed to individuals, organizations, private or public agencies, etc., with whom VA has a contract or agreement to perform such services as VA may deem practicable for the purposes of laws administered by VA in order for the contractor or subcontractor to perform the services of the contract or agreement.

24. Relevant information from this system of records may be disclosed to an accrediting Quality Review and Peer Review Organization in connection with the review of claims or other review activities associated with VA Health Administration Center accreditation to professionally accepted claims processing standards.

POLICIES AND PRACTICES FOR STORING, RETRIEVING, ACCESSING, RETAINING AND DISPOSING OF RECORDS IN THE SYSTEM STORAGE:

Records are stored electronically, in paper folders, magnetic discs, and magnetic tape. Paper documents may be scanned/digitized and stored for viewing electronically.

RETRIEVABILITY:

Paper records are retrieved by name or VA claims file number or social security number of the veteran sponsor. Computer records are retrieved by name or social security number of the veteran sponsor, spouse, and/or dependent, or VA claims file number of the veteran sponsor.

SAFEGUARDS:

Working spaces and record storage areas at the HAC are secured during all business and non-business hours. All entrance doors require an electronic pass card for entry. The HAC Security Officer issues electronic pass cards. HAC staff control visitor entry by door release and escort. The building is equipped with an intrusion alarm system monitored by HAC security staff during business hours and by a security service vendor during non-business hours. Records are stored in an electronic controlled storage filing area. Records in work areas are stored in locked file cabinets or locked rooms. Access to record storage areas is restricted to VA employees on a “need-to-know” basis. Access to the computer room is generally limited by appropriate locking devices and restricted to authorized VA employees and vendor personnel. Automated Data Processing (ADP) peripheral devices are generally placed in secure areas or are otherwise protected. Authorized VA employees may access information in the computer system by a series of individually unique passwords/codes.

RETENTION AND DISPOSAL:

Records are maintained and disposed of in accordance with record disposition authority approved by the Archivist of the United States. Paper records that are scanned and digitized for viewing electronically are destroyed after they have been scanned onto optical disks, and the electronic copy determined to be an accurate and complete copy of the paper record scanned.

SYSTEM MANAGER(S) AND ADDRESS:

Director, Business Office (16), Department of Veterans Affairs, Veterans Health Administration, VA Central Office, 810 Vermont Avenue, NW., Washington, DC 20420. Official Maintaining the System: Director, Health Administration Center, Department of Veterans Affairs, PO Box 65020, Denver, CO 80206-9020.

NOTIFICATION PROCEDURE:

Any individual who wishes to determine whether a record is being maintained in this system under his or her name or other personal identifier, or wants to determine the contents of such record, should submit a written request to Director, VA Health Administration Center, PO Box 65020, Denver, Colorado 80206-9020, or apply in person to the Director, VA Health Administration Center, 300 South Jackson Street, Denver, Colorado 80209. Inquiries should include the veteran sponsor's full name and social security and VA claims file numbers, and the spouse or dependent's name, social security number and return address.

RECORD ACCESS PROCEDURES:

An individual who seeks access to records maintained under his or her name in this system may write or visit the Director, VA Health Administration Center.

CONTESTING RECORD PROCEDURES:

(See Record Access Procedures above.)

RECORD SOURCE CATEGORIES:

The veteran sponsor, spouse and/or dependent, military service departments, private medical facilities and health care professionals, electronic trading partners, contractors, DoD, TRICARE, DEERS, other Federal agencies, VA Regional Offices, Veterans Benefits Administration (VBA) automated record systems, and VA Medical Centers.

[FR Doc. 03-23259 Filed 9-11-03; 8:45 am]

BILLING CODE 8320-01-P